DEPARTMENT OF COMMERCE

Foreign-Trade Zones Board

[B-6-2023]

Foreign-Trade Zone (FTZ) 30—Salt Lake City, Utah, Notification of Proposed Production Activity, Albion Laboratories, Inc. (Mineral Amino Acid Chelates), Ogden, Utah

Albion Laboratories, Inc. (Albion) submitted a notification of proposed production activity to the FTZ Board (the Board) for its facilities in Ogden, Utah, within Subzone 30E. The notification conforming to the requirements of the Board's regulations (15 CFR 400.22) was received on January 13, 2023.

Pursuant to 15 CFR 400.14(b), FTZ production activity would be limited to the specific foreign-status materials/components and specific finished products described in the submitted notification (summarized below) and subsequently authorized by the Board. The benefits that may stem from conducting production activity under FTZ procedures are explained in the background section of the Board's website—accessible via www.trade.gov/ftz.

The proposed finished products include: calcium bisglycinate; calcium citrate malate; calcium potassium phosphate citrate; chromium nicotinate glycinate chelate; copper bisglycinate; dicalcium malate; dimagnesium malate; ferric glycinate; ferrous bisglycinate; magnesium creatine; magnesium bisglycinate; magnesium lysinate glycinate; manganese bisglycinate; selenium glycinate; and, zinc bisglycinate chelate (duty rate ranges from 3.7% to 6.5%).

The proposed foreign-status materials and components include glycine (aminoacetic acid) and malic acid (duty rates are 4.2% and 4%, respectively). The request indicates that glycine is subject to antidumping/countervailing duty (AD/CVD) orders if imported from certain countries. The Board's regulations (15 CFR 400.14(e)) require that merchandise subject to AD/CVD orders, or items which would be otherwise subject to suspension of liquidation under AD/CVD procedures if they entered U.S. customs territory, be admitted to the zone in privileged foreign (PF) status (19 CFR 146.41). The request also indicates that both glycine and malic acid are subject to duties under section 301 of the Trade Act of 1974 (section 301), depending on the country of origin. The applicable Section 301 decisions require subject merchandise to be admitted to FTZs in PF status. As requested, FTZ authority would be subject to the following restrictions: that (1) all finished products made with PF status glycine be exported, and (2) that any approval for glycine be limited to five years.

Public comment is invited from interested parties. Submissions shall be addressed to the Board's Executive Secretary and sent to: ftz@trade.gov. The closing period for their receipt is March 6, 2023.

A copy of the notification will be available for public inspection in the “Online FTZ Information System” section of the Board's website.

For further information, contact Diane Finver at Diane.Finver@trade.gov.

Dated: January 19, 2023.
Elizabeth Whiteman,
Acting Executive Secretary.

[FR Doc. 2023-01330 Filed 1-23-23; 8:45 am]

BILLING CODE 3510-DS-P